DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title:

OMB Control Number: 0648-0205.

Form Number(s): None.

Type of Request: Regular (revision and extension of a currently approved information collection).

Number of Respondents: 10,311.

Average Hours per Response: Response times range from 10 minutes for trip notifications to one hour for permit applications.

Burden Hours: 7,260.

Needs and Uses: This request is for a renewal with revisions to the existing reporting requirements approved under the Office of Management and Budget's (OMB) Control Number 0648-0205, Southeast Region Permit Family of Forms. The SERO Permits Office administers Federal fishing permits in the United States (U.S.) exclusive economic zone (EEZ) of the Caribbean Sea, Gulf of Mexico (Gulf), and South Atlantic under the authority of the Magnuson-Stevens Fishery Conservation and Management Act (Magnuson-Stevens Act), 16 U.S.C. 1801. The SERO Permits Office also proposes to revise parts of the current collection-of-information approved under OMB Control Number 0648-0205.

The National Marine Fisheries Service (NMFS) Southeast Region manages the U.S. Federal fisheries in the Caribbean, Gulf, and South Atlantic under the fishery management plans (FMPs) for each region. The regional fishery management councils prepared the FMPs pursuant to the Magnuson-Stevens Act. The regulations implementing the FMPs, including those that have reporting requirements, are at 50 CFR part 622.

The recordkeeping and reporting requirements at 50 CFR part 622 form the basis for this collection of information. The NMFS Southeast Region requests information from fishery participants. This information, upon receipt, results in an increasingly more efficient and accurate database for management and monitoring of the Federal fisheries in the Caribbean, Gulf, and South Atlantic.

The SERO Permits Office proposes to make minor changes to several forms approved under OMB Control Number 0648-0205.

Affected Public: Business and other for-profit organizations; individuals or households.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: April 11, 2017.
Sarah Brabson,
NOAA PRA Clearance Officer.

[FR Doc. 2017-07550 Filed 4-13-17; 8:45 am]

BILLING CODE 3510-22-P